DEPARTMENT OF COMMERCE

National Oceanic and Atmospheric Administration

[I.D. 032800C]

Fisheries of the Exclusive Economic Zone off Alaska; Groundfish of the Gulf of Alaska; Exempted Fishing Permit

AGENCY: National Marine Fisheries Service (NMFS), National Oceanic and Atmospheric Administration (NOAA), Commerce.

ACTION: Issuance of an exempted fishing permit.

SUMMARY: NMFS announces the issuance of an exempted fishing permit (EFP) 00-01 to Groundfish Forum, Inc., and the At-sea Processors Association (applicants). The EFP authorizes the applicants to conduct an experiment in the Gulf of Alaska (GOA) and the Bering Sea that will test the effectiveness of a halibut excluder device for Pacific cod trawls in reducing halibut bycatch rates without significantly lowering catch rates of cod. This EFP is necessary to provide information not otherwise available through research or commercial fishing operations. The intended effect of this action is to promote the purposes and policies of the Magnuson-Stevens Fishery Conservation and Management Act.

ADDRESSES: Copies of the EFP and the Environmental Assessment (EA) prepared for the EFP are available from Lori J. Gravel, Alaska Region, NMFS, P.O. Box 21668, Juneau, AK 99802.

FOR FURTHER INFORMATION CONTACT: Nina Mollett, 907-586-7462.

SUPPLEMENTARY INFORMATION: The Fishery Management Plan for Groundfish of the Gulf of Alaska and the Fishery Management Plan for the Groundfish Fishery of the Bering Sea and Aleutian Islands Area authorize the issuance of EFPs to fish for groundfish in a manner that would otherwise be prohibited under existing regulations. The procedures for issuing EFPs are set out at 50 CFR 679.6.

On April 11, 2000, NMFS announced in the Federal Register the receipt of an application for an EFP from the applicants (65 FR 19363). The applicants requested authorization to test the effectiveness of a halibut excluder device intended to reduce halibut bycatch rates in the Pacific cod trawl fishery, without lowering the catch of Pacific cod. The purpose of this research is to assist industry in developing gear modifications that will reduce the bycatch of halibut in the cod fisheries off Alaska. This EFP will provide information not otherwise available through research or commercial fishing operations because it is not economically feasible for vessels to participate in an experiment of this extent and rigor during the commercial fisheries.

The Administrator, Alaska Region, NMFS (Regional Administrator), has approved the EFP application and has issued EFP 00-01 to the applicants. The experiment will take place in two parts. Part A will be conducted by a head-and-gut catcher/processor vessel in the GOA in September 2000. The rationale for the timing is that few options exist for open access fishing in the fall, and participating vessels would have a low opportunity cost. Part B will be conducted by a pollock/cod fillet catcher/processor vessel in the Bering Sea in March 2001, during or following the winter cod fishery.

Vessels wishing to participate in the experiment have submitted or will submit applications that include fishing plans describing the vessel’s observer sampling facilities, the general area to be fished, number of tows expected per day, the proposed coordination of observer sampling and deck crew duties during the experiment, and the number of observers (from one to three, subject to NMFS approval).

The vessel for Part A was chosen by a NMFS panel headed up by a NMFS gear expert working with the applicants on this experiment. The vessel for Part B will be a member of the pollock fishery cooperative associated with the At-sea Processors Association (the Pollock Conservation Cooperative). Selection of the vessel will be made by the cooperative, subject to approval by NMFS of the fishing plan and number of observers.

Each part of the experiment will consist of 30 tows. At a rate of 4-5 tows per day, each of the two parts will take 7-10 days to complete. Groundfish and prohibited species catch amounts authorized under the EFP will not be deducted from total allowable catch or prohibited species catch allowances specified for the 2000-2001 groundfish fisheries. This will not cause a conservation problem because estimated total removals under the EFP are within acceptable levels biologically and will not cause the fishery to exceed overfishing levels already considered in the EA for the 2000 specifications.

The EFP authorizes taking up to 396 metric tons (mt) of groundfish in the GOA and 594 mt of groundfish in the Bering Sea, principally cod. Vessels selected for participation will retain all cod and pollock and may retain other groundfish species in accordance with the maximum retainable incidental catch amounts at 50 CFR 679.20(e) and (f), using only cod as the basis species.

The authorized halibut bycatch for this experiment is 47 mt in the GOA and 12 mt in the Bering Sea. Based on the assumed 2000 halibut mortality rates for the GOA cod fishery (63 percent) and the Bering Sea cod fishery (66 percent)(65 FR 8298, February 18, 2000; and 65 FR 8282, February 18, 2000, respectively), these amounts are equivalent to 30 mt of halibut mortality in the GOA and 8 mt of halibut mortality in the Bering Sea. Halibut catch will be measured through a census conducted while deck sorting halibut under the direction of NMFS-certified observers. The applicants expect that this process will enable halibut mortality from the experiment to be lower than the estimated rates for the Pacific cod trawl fisheries.

Bering Sea crab bycatch will not exceed 2,500 C. bairdi crab, 600 C.opilio crab or 75 red king crab. In the GOA, the bycatch of C. bairdiwill be limited to 200 crab. Trace amounts of red king crab bycatch may occur in the GOA. Although such small amounts of crab do not warrant a specified bycatch allowance, the EFP could be amended to establish one if bycatch is higher than anticipated.

The researchers will use a recapture bag, as opposed to doing blocks of similar tows to measure the effects of using an excluder device. The latter method was used by Groundfish Forum, Inc., in a similar experiment conducted in 1998 to develop a halibut excluder device for the deepwater flatfish fisheries. The recapture bag is considered a more powerful design than paired tows for assessing the efficacy of an excluder, but increases the amount of labor and dedicated staff needed to collect the required data from each tow and to get halibut overboard with minimal mortality.

The prototype device was developed during a research trip conducted in July 2000 by a NMFS gear specialist. The researchers’ goal is to develop a device with the following characteristics:

1. It will release a large percentage of the halibut that come into the trawl;

2. It will avoid significant reductions in target catch;

3. It will function with limited failures or breakages;

4. It will be resistant to clogging and debris jams;

5. It will be durable and easily stored on deck;

6. It will be constructed from affordable materials that are readily available.

The Regional Administrator may terminate the experiment if prohibited species bycatch exceeds the high-end projections of the permit applicants. The experiment may not be conducted in Steller sea lion critical habitat (as defined at 50 CFR 226.202) in the Bering Sea and in the GOA west of 144° W. long.

Failure of the permittees to comply with the terms and conditions of the EFP and all applicable provisions of 50 CFR parts 600 and 679, the Magnuson-Stevens Act, or any regulations promulgated thereunder, or any other applicable laws, may be grounds for revocation, suspension or modification of this permit as well as civil or criminal sanctions imposed under those laws.

Classification

NMFS prepared an EA for this EFP. The Assistant Administrator for Fisheries, NOAA, concluded that no significant impact on the human environment will occur as a result of fishing under this EFP. A copy of the EA is available from NMFS (see ADDRESSES). The Regional Administrator determined that fishing activities conducted pursuant to this EFP will not affect endangered and threatened species or critical habitat under the Endangered Species Act, and that a consultation is not required under the essential fish habitat provisions of the Magnuson-Stevens Act.

This notice is exempt from review under Executive Order 12866. It also is exempt under the Regulatory Flexibility Act (RFA) because prior notice and opportunity for public comment are not required. Therefore, the analytical requirements of the RFA are inapplicable.

Authority: 16 U.S.C. 1801 et seq.

Dated: September 8, 2000.
Bruce C. Morehead,
Acting Director, Office of Sustainable Fisheries, National Marine Fisheries Service.

[FR Doc. 00-23533 Filed 9-12-00; 8:45 am]

BILLING CODE 3510-22-S